DEPARTMENT OF EDUCATION

[CFDA No: 84.200]

Office of Postsecondary Education, Graduate Assistance in Areas of National Need (GAANN); Notice Inviting Applications for New Awards for Fiscal Year (FY) 2001

Purpose of Program: GAANN provides fellowships through academic programs and departments of institutions of higher education to assist graduate students with excellent records who demonstrate financial need and plan to pursue the highest degree available in their course of study.

Eligible Applicants: Academic programs and departments of institutions of higher education that meet the requirements in 34 CFR 648.2.

Deadline for Transmittal of Applications: December 15, 2000.

Deadline for Intergovernmental Review: February 13, 2001.

Applications Available: October 10, 2000.

Available Funds: $13,353,640. The estimated amount of funds available for new awards under this competition is based on the Administration's request for this program for FY 2001. The actual level of funding, if any, is contingent on congressional action.

Estimated Range of Awards: $110,040-$750,000.

Estimated Average Size of Awards: $165,060.

Estimated Number of Awards: 80.

Note: The Department is not bound by any estimates in this notice.

Project Period: Up to 36 months.

Applicable Regulations: (a) The Education Department General Administrative Regulations (EDGAR) in 34 CFR parts 74, 75, 77, 79, 82, 85, 86, 97, 98, 99; and (b) the regulations for this program in 34 CFR part 648.

SUPPLEMENTARY INFORMATION: Stipend Level: The Secretary will determine the GAANN fellowship stipend for the academic year 2001-2002 based on the level of support provided by the National Science Foundation (NSF) graduate fellowships, except that the amount will be adjusted as necessary so as not to exceed the GAANN fellow's demonstrated level of financial need.

Institutional Payment: The Secretary will determine the institutional payment for the academic year 2001-2002 by adjusting the academic year 2000-2001 institutional payment, which is $10,500 per fellow, by the U.S. Department of Labor's Consumer Price Index for the previous calendar year.

Priorities

Absolute Priority: Under 34 CFR 75.105(c)(3) and 34 CFR 648.33 the Secretary gives an absolute preference to applications that meet the following priority. The Secretary funds only applications that meet this absolute priority:

A project funded under this priority must propose to provide fellowships in one or more of the following areas of national need: Biology, Chemistry, Computer and Information Sciences, Engineering, Geological and Related Sciences, Mathematics, and Physics.

Invitational Priority: Within the absolute priority specified in this notice, the Secretary is particularly interested in applications from programs in one or more of the academic areas of national need that will provide students with the opportunity for research or training in a foreign country. However, under 34 CFR 75.105(c)(1) an application that meets this invitational priority does not receive competitive preference over other applications.

FOR FURTHER INFORMATION CONTACT: Cosette H. Ryan, Graduate Assistance in Areas of National Need Program, U.S. Department of Education, International Education and Graduate Programs Service, 1990 K Street, NW., 6th Floor, Washington, DC 20006-8521. Telephone: (202) 502-7637. The e-mail address for the GAANN Program is: ope_gaann_program@ed.gov. Individuals who use a telecommunications device for the deaf (TDD) may call the Federal Information Relay Service (FIRS) at 1-800-877-8339.

Individuals with disabilities may obtain this document in an alternate format (e.g., Braille, large print, audiotape, or computer diskette) on request to the appropriate contact person listed in the preceding paragraph. However, the Department is not able to reproduce in an alternate format the standard forms included in the application package.

For Applications Contact: Education Publications Center (ED Pubs), PO Box 1398, Jessup, MD 20794-1398. Telephone (toll free): 1-877-4-ED-PUBS, FAX: (301) 470-1244. Individuals who use a telecommunications device for the deaf (TDD) may call (toll free): 1-877-576-7734. You may also contact ED Pubs via its Web site at: http://www.ed.gov/pubs/edpubs.html.

The e-mail address is: edpubs@inet.ed.gov. If you request an application from ED Pubs, be sure to identify this competition as follows: CFDA #84.200.

Electronic Access to This Document

You may view this document, as well as all other Department of Education documents published in the Federal Register, in text or Portable Document Format (PDF) on the Internet at either of the following sites:

http://ocfo.ed.gov/fedreg.htm

http://www.ed.gov/news.html

To use PDF you must have Adobe Acrobat Reader, which is available free at either of the previous sites. If you have any questions about using the PDF, call the U.S. Government Printing Office (GPO) toll free, at 1-888-293-6498; or in the Washington, DC area, at (202) 512-1530.

Note: The official version of this document is the document published in the Federal Register. Free Internet access to the official edition of the Federal Register and the Code of Federal Regulations is available on GPO Access at:http://www.access.gpo.gov/nara/index.html.

Program Authority: 20 U.S.C. 1135-1135ee.

Dated: September 5, 2000.
A. Lee Fritschler,
Assistant Secretary, Office of Postsecondary Education.

[FR Doc. 00-23219 Filed 9-8-00; 8:45 am]

BILLING CODE 4000-01-U